DEPARTMENT OF STATE

[Public Notice: 11015]

30-Day Notice of Proposed Information Collection: Employee Self-Certification and Ability To Perform in Emergencies (ESCAPE) Posts, Pre-Deployment Physical Exam Acknowledgement Form; Correction

ACTION: Notice; correction.

SUMMARY: The State Department published a document in the Federal Register on January 17, 2020, concerning the information collection submitted to the Office of Management and Budget (OMB) for approval. The document contained incorrect burden estimates.

FOR FURTHER INFORMATION CONTACT: Karl Field, 202-663-1591.

SUPPLEMENTARY INFORMATION:

Correction

In the Federal Register of January 17, 2020, in FR Doc. 2020-00763, on page 3102, in the second column, correct Supplementary Information to read:

• Estimated Number of Respondents: 532.

• Estimated Number of Responses: 532.

• Total Estimated Burden Time: 266 hours.

Dated: January 27, 2020.
Karl Field,
Director of Medical Clearances.

[FR Doc. 2020-01881 Filed 1-30-20; 8:45 am]

BILLING CODE 4710-36-P